NUCLEAR REGULATORY COMMISSION

Sunshine Act; Meeting

DATES: Weeks of November 29, December 6, 13, 20, 27, January 3, 2004.

PLACE: Commissioners' Conference Room, 11555 Rockville Pike, Rockville, Maryland.

STATUS: Public and closed.

MATTERS TO BE CONSIDERED:

Week of November 29, 2004

There are no meetings scheduled for the week of November 29, 2004.

Week of December 6, 2004—Tentative

Tuesday, December 7, 2004

9:30 a.m. Briefing on Equal Employment Opportunity (EEO) Program (Public Meeting) (Contact: Corenthis Kelley, 301-415-7380.

This meeting will be webcast live at the Web Address— http://www.nrc.gov.

Wednesday, December 8, 2004

12:55 p.m. Affirmation Session (Public Meeting) (Tentative).

a. Motion to Quash Ol Subpoena (Tentative).

b. Duke Energy Corp. (Catawba Nuclear Station, Units 1 and 2); Intervenor's Motion for Reconsideration of CLI-04-29 (Tentative).

1 p.m. Briefing on Status of Davis Besse Lessons Learned Task Force Recommendations (Public Meeting) (Contact: John Jolicoeur, 301-415-1724).

This meeting will be webcast live at the Web address— http://www.nrc.gov.

Thursday, December 9, 2004

2 p.m. Briefing on Reactor Safety and Licensing Activities (Public Meeting) (Contact: Steve Koenick, 301-415-1239).

This meeting will be webcast live at the Web address— http://www.nrc.gov.

Week of December 13, 2004—Tentative

Tuesday, December 14, 2004

1 p.m. Briefing on Emergency Preparedness Program Initiatives (Public Meeting) (Contact: Nader Mamish, 301-415-1086).

This meeting will be webcast live at the Web address— http://www.nrc.gov.

Week of December 20, 2004—Tentative

There are no meetings scheduled for the week of December 20, 2004.

Week of December 27, 2004—Tentative

There are no meetings scheduled for the week of December 27, 2004.

Week of January 3, 2005—Tentative

There are no meetings scheduled for the week of January 3, 2005.

*The schedule for Commission meetings is subject to change on short notice. To verify the status of meetings call (recording)—301-415-1292. Contact person for more information: Dave Gamberoni, 301-415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system, is available. If you are interested in receiving this Commission meeting schedule electronically, please send an electronic message to dkw@nrc.gov.

Dated: November 24, 2004.
Dave Gamberoni,
Office of the Secretary.

[FR Doc. 04-26447 Filed 11-26-04; 9:23 am]

BILLING CODE 7590-01-M